INTERNATIONAL TRADE COMMISSION

[Investigation No. 332-424]

U.S.-Israel Agricultural Trade: Likely Effects on the U.S. and Israeli Agricultural; Industries of U.S.-Israel Trade Conducted in a Free Trade Environment

AGENCY: United States International Trade Commission (ITC).

ACTION: Initiation of investigation and notice of hearing.

EFFECTIVE DATE: December 21, 2000.

SUMMARY: Following receipt of a request on December 1, 2000, from the United States Trade Representative (USTR), pursuant to authority under section 332(g) of the Tariff Act of 1930, the Commission instituted investigation No. 332-424, U.S.-Israel Agricultural Trade: Likely Effects on the U.S. and Israeli Agricultural Industries of U.S.-Israel Trade Conducted in a Free Trade Environment.

FOR FURTHER INFORMATION CONTACT: For general information, contact Stephen Burket (202-205-3318; burket@usitc.gov), John Fry (202-708-4157; jfry@usitc.gov), or Cathy Jabara (202-205-3309; jabara@usitc.gov), Agriculture and Forest Products Division, Office of Industries. For information on legal aspects, contact William Gearhart (202-205-3091; wgearhart@usitc.gov), Office of the General Counsel, U.S. International Trade Commission. Hearing impaired persons can obtain information on these studies by contacting the Commission's TDD terminal on (202) 205-1810. General information concerning the Commission may also be obtained by accessing its internet server (http://www.usitc.gov).

Background

The United States-Israel Agreement on Trade in Agricultural Products (ATAP), an adjunct to the 1985 Agreement on the establishment of a Free Trade Area between the Government of Israel and the Government of the United States (FTA Agreement), is a five-year agreement signed in 1996 and expiring on December 31, 2001. The FTA Agreement applies, in full, to trade in all products between the two countries. However, the United States and Israel held differing interpretations as to the meaning of certain rights and obligations related to agricultural products under the FTA Agreement. In the interest of achieving practical improvements in agricultural trade between the two countries, the United States in 1996 entered into the ATAP with Israel. In 2001, the Governments of the United States and Israel will initiate review of the ATAP to seek ways to improve the Agreement prior to its expiration. In order to assist USTR in preparing for these negotiations, under authority delegated by the President and pursuant to section 332(g) of the Tariff Act of 1930, USTR requested that the ITC conduct a study analyzing the likely effect on both the U.S. and Israeli agricultural industries of U.S.-Israel agricultural trade conducted in a free trade environment. USTR requested that the Commission's report include the following:

• An analysis of the effects on free U.S./Israel trade in agriculture at the industry level, focusing on the main products traded or likely to be traded by the United States and Israel. In preparing this analysis, the Commission should assume that the new ATAP would include elimination of tariffs and tariff-rate quotas on agricultural products so as to calculate its maximum potential impact. To the extent possible, and depending on data availability, the analysis should include the use of partial equilibrium analysis and other quantitative methods.

• A review of existing Israeli non-tariff barriers to agricultural trade and an analysis of their impact on U.S. agricultural exports to Israel.

The Commission plans to submit its report U.S.-Israel Agricultural Trade: Likely Effects on the U.S. and Israeli Agricultural Industries of U.S.-Israel Trade Conducted in a Free Trade Environment on June 1, 2001. USTR indicated that portions of the report will be classified as confidential.

Public Hearing

A public hearing in connection with the investigation will be held at the U.S. International Trade Commission Building, 500 E Street SW., Washington, DC, beginning at 9:30 a.m. on March 6, 2001. All persons shall have the right to appear, by counsel or in person, to present information and to be heard. Requests to appear at the public hearing should be filed with the Secretary, United States International Trade Commission, 500 E Street SW., Washington, DC 20436, no later than 5:15 p.m., February 20, 2001. Any prehearing briefs (original and 14 copies) should be filed not later than 5:15 p.m., February 22, 2001; the deadline for filing post-hearing briefs or statements is 5:15 p.m., March 16, 2001. In the event that, as of the close of business on February 21, 2001, no witnesses are scheduled to appear at the hearing, the hearing will be canceled. Any person interested in attending the hearing as an observer or non-participant may call the Secretary of the Commission (202-205-1806) after February 21, 2001, to determine whether the hearing will be held.

Written Submissions

Commercial or financial information that a person desires the Commission to treat as confidential must be submitted on separate sheets of paper, each clearly marked “Confidential Business Information” at the top. The Commission's Rules do not authorize filing of submissions with the Secretary by facsimile or electronic means. All written submissions must conform with the provisions of section 201.8 of the Commission's Rules of Practice and Procedure (19 CFR 201.8). All submissions requesting confidential treatment must conform with the requirements of § 201.6 of the Commission's Rules (19 CFR 201.6). All written submissions, except for confidential business information, will be made available for inspection by interested persons in the Office of the Secretary to the Commission. To be assured of consideration, written statements relating to the Commission's report should be submitted at the earliest possible date and should be received not later than March 16, 2001. All submissions should be addressed to the Secretary, United States International Trade Commission, 500 E Street SW., Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov).

List of Subjects: ATAP, imports, exports, tariffs, agricultural trade, Israel, non-tariff barriers.

Issued: December 22, 2000.
By order of the Commission.
Donna R. Koehnke,
Secretary.

[FR Doc. 00-33256 Filed 12-28-00; 8:45 am]

BILLING CODE 7020-02-P